DEPARTMENT OF AGRICULTURE

Farm Service Agency

President's Commission on Improving Economic Opportunity in Communities Dependent on Tobacco Production While Protecting Public Health

AGENCY: Farm Service Agency, USDA.

ACTION: Notice of meeting.

SUMMARY: Executive Order 13168 published September 22, 2000, established the President's Commission on Improving Economic Opportunity in Communities Dependent on Tobacco Production While Protecting Public Health (Commission). This meeting will be devoted to reviewing written and oral comments received to establish a list of issues on tobacco and health related issues the Commission will consider in issuing its Reports to the President. This notice announces a public meeting to be conducted by the Commission on December 5, 2000. All meetings are open to the public; however, seating is limited and available on a first-come basis. Written comments may be filed with the committee before or after the meeting at the contact information listed below.

DATES: The Commission will meet on December 5, 2000, from 9:00 am to 1:00 pm at 2101 L Street, NW, Room 303A, Washington, DC. All times are Eastern Standard Time.

FOR FURTHER INFORMATION CONTACT: Doug Richardson, Executive Director, Tobacco Commission, United States Department of Agriculture, (USDA), 1400 Independence Avenue,, SW, STOP 0574, Washington, D.C. 20250-0574 or telephone (202) 418-4266 or toll free (886) 804-6694; FAX (202) 418-4270; Internet: doug_richardson@wdc. usda.fsa.

SUPPLEMENTARY INFORMATION: The purpose of the Commission is to advise the President on changes occurring in the tobacco farming economy and recommend such measures as may be necessary to improve economic opportunity and development in communities that are dependent on tobacco production, while protecting consumers, particularly children, from hazards associated with smoking. The Commission shall collect and review information about changes in the tobacco farming economy and Federal, State, and local initiatives intended to help tobacco growers, tobacco quota holders, and communities dependent on tobacco production pursue new economic opportunities. The Commission may make recommendations concerning these, and any other, changes and initiatives that may be necessary to improve economic opportunity in communities dependent on tobacco production. The Commission shall also consider the public health implications of such changes and initiatives, including the efforts to reduce the number of people who incur tobacco caused diseases. The Commission may also make recommendations about measures needed to reduce the tobacco related health consequences of tobacco use in the United States and abroad. The Commission conducted forums on November 9, 2000, in Raleigh, NC, and on November 10, 2000, in Louisville, KY. Both forums were held to seek comments on tobacco and health related issues the Commission will consider in issuing its Reports to the President.

If special accommodations are required, please contact Doug Richardson, at the address specified above, by COB November 28, 2000.

Signed at Washington, D.C. on November 17, 2000.
Keith Kelly,
Administrator, Farm Service Agency.

[FR Doc. 00-29884 Filed 11-21-00; 8:45 am]

BILLING CODE 3410-05-P